DEPARTMENT OF THE INTERIOR

Fish and Wildlife Service

[FWS-R8-ES-2016-N065; FXES11120800000-156-FF08EVEN00]

Habitat Conservation Plan for the Morro Shoulderband Snail; Sweet Springs Nature Preserve, Community of Los Osos, San Luis Obispo County, California

AGENCY: Fish and Wildlife Service, Interior.

ACTION: Notice of availability; request for comment.

SUMMARY: We, the U.S. Fish and Wildlife Service (Service), have received an application from Morro Coast Audubon Society (MCAS) for a 15-year incidental take permit (ITP) under the Endangered Species Act of 1973, as amended. The application addresses the potential for “take” of the federally endangered Morro shoulderband snail likely to result incidental to the removal of nonnative vegetation, restoration of native coastal dune scrub habitat, construction and ongoing uses of a coastal access trail, and routine maintenance of preserve lands on approximately 31 acres known as Sweet Springs Nature Reserve in the unincorporated community of Los Osos, San Luis Obispo County, California. We invite comments from the public on the application package, which includes a draft habitat conservation plan (HCP) and draft low-effect screening form and environmental action statement, which constitutes our proposed National Environmental Policy Act (NEPA) compliance.

DATES: To ensure consideration, please send your written comments by May 11, 2016.

ADDRESSES: You may download a copy of the draft HCP and draft low-effect screening form and environmental action statement on the internet at http://www.fws.gov/ventura/, or you may request copies of the documents by U.S. mail to our Ventura office, or by phone (see FOR FURTHER INFORMATION CONTACT). Please address written comments to Stephen P. Henry, Field Supervisor, Ventura Fish and Wildlife Office, U.S. Fish and Wildlife Service, 2493 Portola Road, Suite B, Ventura, CA 93003. You may alternatively send comments by facsimile to (805) 644-3958.

FOR FURTHER INFORMATION CONTACT: Julie M. Vanderwier, Senior Fish and Wildlife Biologist, at the Ventura office address or by phone at (805) 644-1766.

SUPPLEMENTARY INFORMATION: We have received an application from the MCAS for an ITP pursuant to section 10(a)(1)(B) of the Endangered Species Act (Act; 16 U.S.C. 1531 et seq.). The application addresses take of the federally endangered Morro shoulderband snail (Helminthoglypta walkeriana) likely to occur incidental to operation and maintenance of the existing preserve, habitat enhancement and restoration, enhanced public use, and invasive nonnative tree trimming/removal within three existing legal parcels that total approximately 31 acres collectively known as Sweet Springs Nature Preserve. The requested permit term is 15 years and the permit would be subject to renewal. We invite comments from the public on the application package. Issuance of an ITP pursuant to this HCP has been determined to be eligible for a categorical exclusion under NEPA.

Background

The Morro shoulderband snail was listed as endangered on December 15, 1994 (59 FR 64613). Section 9 of the Act and its implementing regulations (16 U.S.C. 1531 et seq.) prohibit the take of fish or wildlife species listed as endangered or threatened. Under the Act, “take” is defined to include the following activities: “to harass, harm, pursue, hunt, shoot, wound, kill, trap, capture, or collect, or to attempt to engage in any such conduct” (16 U.S.C. 1532). Under section 10(a)(1)(B) of the Act, we may issue permits to authorize take of listed species if it is incidental to other lawful activities and not the purpose of carrying out that activity. The Code of Federal Regulations provides those regulations governing incidental take permits for threatened and endangered species at 50 CFR 17.32 and 17.22. Issuance of an incidental take permit must not jeopardize the existence of any federally listed fish, wildlife or plant species.

The Applicant's Proposed Project

As the owner and manager of Sweet Springs Nature Preserve, MCAS proposes to implement the following under required regulatory authorization: (1) Provide public access to Sweet Springs Nature Preserve; (2) conduct surveys for, capture, and move Morro shoulderband snails out of harm's way; (3) conduct habitat enhancement activities (e.g., non-native species removal, planting and seeding native plant species, irrigation) in the eastern parcel of the preserve; (4) install access improvements (including Americans with Disabilities Act-compliant parking) and other amenities in the eastern parcel of the preserve; (5) maintain, replace, and enhance existing facilities throughout the preserve; (6) maintain and irrigate restored/enhanced vegetation as needed to ensure success; (6) construct, improve, and maintain trails; (7) trim and/or remove nonnative trees; and (8) limit/direct foot traffic to trails and identified areas consistent with the stewardship agreement by which MCAS was deeded the property from the California Coastal Conservancy.

The draft HCP contains two alternatives to the proposed action: “No Action” and “Alternate Design.” Under the “No Action” alternative, the Service would not issue an ITP, and trail and overlook construction, installation of fencing, and habitat restoration would not occur. Unauthorized neighborhood uses of the parcels that could cause take of Morro shoulderband snail would continue. MCAS would not be able to open this portion of Sweet Springs Nature Preserve to the public due to inadequate access. Failure to open the preserve would contravene the terms of the agreement by which MCAS was deeded the property. Repossession of the property by the California Coastal Conservancy could interrupt stewardship of the parcel, and habitat degradation would be expected to result. For these reasons and because the proposed action results in a net benefit for the Morro shoulderband snail, the “No Action” alternative has been rejected.

The “Alternate Design” alternative is similar to the proposed action, except that it eliminates approximately 450 linear feet of trail and would include a slightly smaller lookout. Access to the main trail from the existing trail on the central preserve would be reduced to just one connecting trail. This alternative would remove the small loop that is proposed near the middle of the main trail and replace it with a wider path. The location of the lookout would not change but the footprint would be reduced by approximately 40 percent. Selection of this alternative would provide less public benefit than the proposed project and be less efficient at directing human traffic away from existing habitat occupied by Morro shoulderband snail. For these reasons, the “Alternate Design” alternative has also been rejected.

Our Preliminary Determination

We have determined that the applicant's proposal will have a minor or negligible effect on the Morro shoulderband snail and that the HCP qualifies for processing as a low-effect plan consistent with our Habitat Conservation Planning Handbook (November 1996). Three criteria form the basis for our determination: (1) The proposed project as described in the HCP would result in minor or negligible effects on federally listed, proposed, and/or candidate species and their habitats; (2) implementation of the HCP would result in minor negligible effects on other environmental values or resources; and (3) HCP impacts, considered together with those of other past, present, and reasonably foreseeable future projects, would not result in cumulatively significant effects. It is our preliminary determination that HCP approval and ITP issuance qualify for categorical exclusion under the NEPA (42 U.S.C. 4321 et seq.), as provided by the Department of the Interior implementing regulations in part 46 of title 43 of the Code of Federal Regulations (43 CFR 46.205, 46.210, and 46.215). However, we may revise our determination based upon review of public comments received in response to this notice.

Next Steps

We will evaluate the permit application, including the draft HCP and comments we receive, to determine whether it meets the requirements of section 10(a)(1)(B) of the Act. We will also evaluate whether issuance of the ITP would comply with section 7of the Act by conducting an intra-Service consultation pursuant to section 7(a)(2).

Public Review

We request comments from the public regarding our preliminary determination that the applicant's proposal will have a minor or negligible effect on the Morro shoulderband snail and that the HCP qualifies for processing as a low-effect. We will evaluate comments received and make a final determination regarding whether the application meets the requirements of section 10(a)(1)(B) of the Act. We will incorporate the results of our intra-Service consultation, in combination with the above findings, in our final analysis to determine whether to issue the ITP. If all of our requirements are met, we will issue the ITP to the applicant. Permit issuance would not occur less than 30 days from the date of this notice.

Public Comments

If you wish to comment on the permit application, HCP, and associated documents, you may submit comments by any one of the methods provided in ADDRESSES.

Public Availability of Comments

Before including your address, phone number, email address, or other personal identifying information in your comment, you should be aware that your entire comment, including your personal identifying information, may be made publicly available at any time. While you can ask us in your comment to withhold your personal identifying information from public view, we cannot guarantee that we will be able to do so.

Authority

We provide this notice under section 10(c) of the Act and the NEPA public involvement regulations (40 CFR 1500.1(b), 1500.2(d), and 1506.6).

Dated: April 4, 2016.
Stephen P. Henry,
Field Supervisor, Ventura Fish and Wildlife Office, Ventura, California.

[FR Doc. 2016-08238 Filed 4-8-16; 8:45 am]

BILLING CODE 4310-55-P